DEPARTMENT OF HEALTH AND HUMAN SERVICES

Administration for Children and Families

Submission for OMB Review; Comment Request

Title: Procedural Justice Informed Alternatives to Contempt (PJAC).

OMB No.: 0970-NEW.

Description: The Office of Child Support Enforcement (OCSE) within the Administration for Children and Families (ACF) is proposing data collection activity as part of the Procedural Justice Informed Alternatives to Contempt Demonstration (PJAC). In September 2016, OCSE issued grants to six child support agencies to provide alternative approaches to the contempt process with the goal of increasing parents' compliance with child support orders by building trust and confidence in the child support agency and its processes. PJAC is a five-year project (the first year of which is dedicated to planning) that will allow grantees to learn whether incorporating principles of procedural justice into child support business practices increases reliable child support payments. In addition to increasing reliable payments, the PJAC intervention aims to reduce arrears, minimize the need for continued enforcement actions and sanctions, and reduce the inefficient use of contempt proceedings.

The PJAC evaluation will yield information about the efficacy of applying procedural justice principles via a set of alternative services to the current contempt process. It will generate extensive knowledge regarding how PJAC programs operate, the effects the programs have, and whether their benefits exceed their costs. The information gathered will be critical to informing future policy decisions related to contempt.

The PJAC evaluation will include the following three interconnected components or “studies”:

1. Implementation Study. The goal of the implementation study is to provide a detailed description of the PJAC programs—how they are implemented, their participants, the contexts in which they are operated, and their promising practices. The implementation study will also assess whether the PJAC interventions are implemented as intended (implementation fidelity) as well as how the treatment implemented differed from the status quo (treatment contrast). The detailed descriptions will assist in interpreting program impacts and identifying program features and conditions necessary for effective program replication or improvement. Key activities of the implementation study will include: (1) A Management Information System (MIS) for collection and analysis of program participation data to track participant engagement in PJAC activities; (2) semi-structured interviews with program staff and staff from selected community partner organizations; (3) semi-structured interviews with program participants to learn about their experiences in PJAC; and (4) a staff questionnaire to gather broader quantitative information on program implementation and staff experiences.

2. Impact Study: The goal of the impact study is to provide rigorous estimates of the effectiveness of the six programs using an experimental research design. Program applicants who are eligible for PJAC services will be randomly assigned to either a program group that is offered program services or to a control group that is not offered those services. The random assignment process will require child support program staff to complete a brief data entry protocol. The impact study will rely on administrative data from state and county child support systems, court records, criminal justice records, and data from the National Directory of New Hires. Administrative records data will be used to estimate impacts on child support payments, enforcement actions, contempt proceedings, jail stays, and employment and earnings. The impact study will also include a follow-up survey of participants that will be administered approximately 12 months after random assignment to a subset of the sample. The survey will gather information on participant experiences with the child support program and family court, family relationships, parenting and co-parenting, informal child support payments, and job characteristics. In an effort to enhance response rates, the PJAC survey firm will attempt to track survey sample members at a few points over the 12-month follow-up period in order to stay in touch with them and gather updated contact information from them.

3. Benefit-Cost Study: The benefit-cost study will estimate the costs and benefits associated with the implementation and impact of the PJAC interventions. The study will examine the costs and benefits from the perspective of the government, noncustodial parents, custodial parents and their children, and society. Once measured, particular impacts or expenditures will constitute benefits or costs, depending on which analytical perspective is considered. For each of the perspectives, pertinent benefits and costs will be added together to determine the net value of the program. Key hypothesized benefits and costs to be assessed include increased PJAC intervention costs, reduced costs for contempt actions, increased payments from non-custodial parents, reduced court costs, and reduced jail time, among others. The benefit-cost study will rely on the results of the impact study, analysis of participation data from the MIS, and results of a staff time study in order to quantify various PJAC-related costs and benefits.

This 30-Day Notice covers the following data collection activities: (1) Staff data entry for random assignment; (2) Study MIS to track program participation; (3) Staff and community partner interview topic guide; (4) Participant interview topic guide; and (5) Participant survey tracking letter.

Respondents: Respondents for the first information collection phase include study participants and grantee staff and community partners. Specific respondents per instrument are noted in the burden table below.

Annual Burden Estimates
Instrument | Number of respondents | Number of responses per respondent | Average burden hours per response | Total burden hours | Total annual burden hours
Staff data entry for random assignment | 120 | 150 | 0.05 | 900 | 300
Study MIS to track program participation | 120 | 150 | 1.00 | 18,000 | 6,000
Staff and community partner interview topic guide | 150 | 2 | 1.00 | 300 | 100
Participant interview topic guide | 180 | 1 | 1.00 | 180 | 60
Participant survey tracking letter | 3,000 | 3 | 0.10 | 900 | 300

Estimated Total Annual Burden Hours: 6,760.

Additional Information: Copies of the proposed collection may be obtained by writing to the Administration for Children and Families, Office of Planning, Research and Evaluation, 330 C Street SW., Washington, DC 20201. Attention: Reports Clearance Officer. All requests should be identified by the title of the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2017-16254 Filed 8-1-17; 8:45 am]

BILLING CODE 4184-01-P